COMMITTEE FOR PURCHASE FROM PEOPLE WHO ARE BLIND OR SEVERELY DISABLED

Procurement List; Additions and Deletion

AGENCY: Committee for Purchase From People Who Are Blind or Severely Disabled.

ACTION: Additions to and deletions from procurement list.

SUMMARY: This action adds to the Procurement List products and services to be furnished by nonprofit agencies employing persons who are blind or have other severe disabilities, and deletes from the Procurement List a product previously furnished by such agencies.

EFFECTIVE DATE: The effective date for addition of the product Forest Fire Shovel (5120-00-965-0609) will be November 8, 2004. The addition for all other products and services in this notice will be effective February 8, 2004.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION:

Additions

On October 10, October 24, November 7, and November 14, 2003, the Committee for Purchase From People Who Are Blind or Severely Disabled published notice (68 FR 58651, 60908, 63057/63058, and 64589) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

Product/NSN: Forest Fire Shovel, 5120-00-965-0609.

NPA: Mississippi Industries for the Blind, Jackson, Mississippi.

Contract Activity: GSA, Southwest Supply Center, Fort Worth, Texas.

Product/NSN: Nylon Duffel Bag, 8465-01-117-8699 (Surge requirements only above current contractor capacity, not to exceed 180,000 units).

NPA: Industrial Opportunities, Inc., Andrews, North Carolina.

Contract Activity: Defense Supply Center Philadelphia, Philadelphia, Pennsylvania.

Product/NSN: Type C Pallet, 3990-00-NSH-0002.

NPA: Goodwill Industries of South Texas, Inc., Corpus Christi, Texas.

Contract Activity: Corpus Christi Army Depot, Texas.

Services

Service Type/Location: Administrative Support Services, USDA, Rural Development Agency, St. Louis, Missouri.

NPA: MGI Services Corporation, St. Louis, Missouri.

Contract Activity: USDA, Rural Development Agency, St. Louis, Missouri.

Service Type/Location: Mailing Services, U.S. Mint, Washington, DC.

NPA: ServiceSource, Inc., Alexandria, Virginia.

Contract Activity: U.S. Mint, Washington, DC.

Service Type/Location: Virtual Call Center Services, Internal Revenue Service, Oxon Hill, Maryland.

NPA: National Telecommuting Institute, Inc., Boston, Massachusetts.

Contract Activity: U.S. Treasury, IRS Headquarters, Oxon Hill, Maryland.

Deletion

On November 7, 2003, the Committee for Purchase From People Who Are Blind or Severely Disabled published notice (68 FR 63058) of proposed deletion to the Procurement List. After consideration of the relevant matter presented, the Committee has determined that the product listed below is no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the product to the Government.

3. There are no known regulatory alternatives which would accomplish the objectives of the Javits-Wagner-O'Day Act (41 U.S.C. 46-48c) in connection with the product deleted from the Procurement List.

End of Certification

Accordingly, the following product is deleted from the Procurement List:

Product

Product/NSN: Scraper, Ice, 7920-01-323-0793.

NPA: L.C. Industries For The Blind, Inc., Durham, North Carolina.

Contract Activity: GSA, Southwest Supply Center, Fort Worth, Texas.

Sheryl D. Kennerly,
Director, Information Management.

[FR Doc. 04-461 Filed 1-8-04; 8:45 am]

BILLING CODE 6353-01-P